DEPARTMENT OF HEALTH AND HUMAN SERVICES

Centers for Disease Control and Prevention

[30-Day-12-12II]

Agency Forms Undergoing Paperwork Reduction Act Review

The Centers for Disease Control and Prevention (CDC) publishes a list of information collection requests under review by the Office of Management and Budget (OMB) in compliance with the Paperwork Reduction Act (44 U.S.C. chapter 35). To request a copy of these requests, call (404) 639-7570 or send an email to omb@cdc.gov. Send written comments to CDC Desk Officer, Office of Management and Budget, Washington, DC 20503 or by fax to (202) 395-5806. Written comments should be received within 30 days of this notice.

Proposed Project

Risk Factors for Invasive Methicillin-resistant Staphylococcus aureus (MRSA) among Patients Recently Discharged from Acute Care Hospitals through the Active Bacterial Core Surveillance for Invasive MRSA infections (ABCs MRSA)—NEW—National Center for Emerging and Zoonotic Infectious Diseases (NCEZID), Centers for Disease Control and Prevention (CDC).

Background and Brief Description

Essential steps in reducing the occurrence of healthcare-associated invasive MRSA infections are to quantify the burden and to identify modifiable risk factors associated with invasive MRSA disease. The current CDC's ABCs MRSA surveillance has been essential to quantify the burden of invasive MRSA in the United States. Through this surveillance CDC was able to estimate that 94,360 invasive MRSA infections associated with 18,650 deaths occurred in the United States in 2005. The majority of these invasive infections (58%) had onset in the community or within 3 days of hospital admission and occurred among individuals with recent healthcare exposures (healthcare-associated community-onset [HACO]). More recent data from the CDC's ABCs MRSA system have shown that two thirds of invasive healthcare-associated community-onset MRSA infections occur among persons who are discharged from an acute care hospital in the prior 3 months. Risk factors for invasive MRSA infections post-discharge have not been well evaluated, and effective prevention measures in this population remain uncertain.

For this project, an estimated total of 450 patients (150 patients with HACO MRSA infection post-acute care discharge and 300 patients without HACO MRSA infection) will be contacted for the MRSA interview annually. This estimate is based on the numbers of MRSA cases reported by the ABCs MRSA sites annually (http://www.cdc.gov/abcs/reports-findings/survreports/mrsa08.html ) who are 18 years of age or older, had onset of the MRSA infection in the community or within 3 days of hospital admission, and history of hospitalization in the prior 3 months. ABCs MRSA surveillance case report forms will be used to identify HACO MRSA cases to be contacted for a telephone interview. For each HACO MRSA case identified; 2 patients without HACO MRSA infection (control-patients) matched on age with MRSA case will be contacted for a health interview. All 450 patients (both cases and controls) will be screened for eligibility and those considered to be eligible will complete the telephone interview. We anticipate that 350 of the 450 patients screened will complete the telephone interview across all 6 participating ABCs MRSA sites per year. We anticipate the screening questions to take about 5 minutes and the telephone interview 20 minutes per respondent.

Preventing healthcare-associated invasive MRSA infections is one of CDC priorities. The goal of this project is to assess risk factors for invasive healthcare-associated MRSA infections, which will inform the development of targeted prevention measures. This activity supports the HHS Action Plan for elimination of healthcare-associated infections.

There are no costs to respondents. The total response burden for the study is estimated as 155 hours.

Type of respondents | Form name | Number of respondents | Number of responses per respondent | Average burden per response (in hours)
Hospital Patients | Screening Form | 450 | 1 | 5/60
| Telephone interview | 350 | 1 | 20/60

Kimberly S. Lane,
Deputy Director, Office of Science Integrity, Office of the Associate Director for Science, Office of the Director, Centers for Disease Control and Prevention.

[FR Doc. 2012-16641 Filed 7-6-12; 8:45 am]

BILLING CODE 4163-18-P